DEPARTMENT OF TRANSPORTATION

Federal Railroad Administration

Notice of Application for Approval of Discontinuance or Modification of a Railroad Signal System or Relief From the Requirements of Title 49 Code of Federal Regulations Part 236

Pursuant to Title 49 Code of Federal Regulations (CFR) part 235 and 49 U.S.C. 20502(a), the following railroad has petitioned the Federal Railroad Administration (FRA) seeking approval for the discontinuance or modification of the signal system or relief from the requirements of 49 CFR part 236 as detailed below.

[Docket Number FRA-2007-27287]

Applicant: BNSF Railway Company, Mr. Gregory C. Fox, Vice President Engineering, P.O. Box 961034, Fort Worth, Texas 76161-0034.

BNSF Railway Company (BNSF) seeks relief from the requirements of the Rules, Standards and Instructions, Title 49 CFR part 236, Section 236.377 Approach Locking, 236.378 Time locking, 236.379 Route Locking, 236.380 Indication Locking, and 236.381 Traffic Locking, on processor-based systems to the extent that only the following be required every four years after initial testing or program change:

• Verification of the CRC/Check Sum/UCN of the existing location specific application logic to the previously tested version.

• Tests on equipment outside the processor (switch indication, track indication, searchlight signal indication, approach locking (if external)) are verified to the processor's inputs and switch locking is tested from the processor's output to the switch machine.

• Testing of the duration of any timers with variable settings.

Applicant's justification for relief: Many of BNSF's interlockings and control points are controlled by solid-state processor-based systems. The 2-year signal locking tests for solid-state interlockings required by the FRA place an undue burden on the railroad. Due to train traffic, some large control points can take a month or more to complete the 2-year locking tests. Once a processor-based system has been tested and locking tests documented on installation, re-testing should not be required since the logic continues to operate in the same manor as it did when installed and the operation does not change.

Any interested party desiring to protest the granting of an application shall set forth specifically the grounds upon which the protest is made, and include a concise statement of the interest of the party in the proceeding. Additionally, one copy of the protest shall be furnished to the applicant at the address listed above.

All communications concerning this proceeding should be identified by docket number FRA-2007-27287 and may be submitted by one of the following methods:

• Web site: http://dms.dot.gov. Follow the instructions for submitting comments on the DOT electronic site;

• Fax: 202-493-2251;

• Mail: Docket Management Facility, U.S. Department of Transportation, 400 Seventh Street, SW., Nassif Building, Room PL-401, Washington, DC 20590-0001; or

• Hand Delivery: Room PL-401 on the Plaza Level of the Nassif Building, 400 Seventh Street, SW., Washington, DC, between 9 a.m. and 5 p.m., Monday through Friday, except Federal holidays.

Communications received within 45 days of the date of this notice will be considered by the FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC on April 9, 2007.
Grady C. Cothen, Jr.,
Deputy Associate Administrator for Safety Standards and Program Development.

[FR Doc. E7-7070 Filed 4-12-07; 8:45 am]

BILLING CODE 4910-06-P